DEPARTMENT OF ENERGY

Federal Energy Regulatory Commission

Combined Notice of Filings # 1

July 11, 2007.

Take notice that the Commission received the following electric corporate filings:

Docket Numbers: EC07-112-000.

Applicants: Metro Energy, L.L.C.; DTE Pontiac North, LLC; DTE Energy Services, Inc.; CL Michigan Holdings, LLC.

Description: Metro Energy, LLC et al. submit an application for order authorizing disposition of Jurisdictional Facilities under section 203 of the Federal Power Act and request for waivers.

Filed Date: 07/02/2007.

Accession Number: 20070709-0028.

Comment Date: 5 p.m. Eastern Time on Friday, July 20, 2007.

Take notice that the Commission received the following exempt wholesale generator filings:

Docket Numbers: EG07-64-000.

Applicants: Benton County Wind Farm.

Description: Exempt Wholesale Generator Notice of Self-Certification of Benton County Wind Farm.

Filed Date: 07/03/2007.

Accession Number: 20070703-5009.

Comment Date: 5 p.m. Eastern Time on Tuesday, July 24, 2007.

Take notice that the Commission received the following electric rate filings:

Docket Numbers: ER00-2917-010; ER99-2948-011; ER00-2918-010; ER97-2261-021; ER01-1654-012; ER02-2567-010; ER02-699-004; ER04-485-007; ER07-247-002; ER07-245-002; ER07-244-002.

Applicants: Calvert Cliffs Nuclear Power Plant, Inc.; Baltimore Gas and Electric Company; Constellation Power Source Generation, Inc.; Calvert Cliffs Nuclear Power Plant, Inc.; Constellation energy Commodities Group, Inc.; Handsome Lake Energy, LLC; Nine Mile Point Nuclear Station, LLC; Constellation NewEnergy, Inc.; Constellation Energy Commodities Group Maine, LLC; R.E.Ginna Nuclear Power Plant, LLC; Raven One, LLC; Raven Two, LLC; Raven Three, LLC.

Description: Constellation Energy Group, Inc submits a notice of change is status for which FERC has granted market-based rate authority in compliance with Order 652 under ER99-2948 et al.

Filed Date: 07/02/2007.

Accession Number: 20070705-0197.

Comment Date: 5 p.m. Eastern Time on Monday, July 23, 2007.

Docket Numbers: ER01-48-008.

Applicants: Powerex Corp.

Description: Powerex Corporation submits this notice of change in status with respect to events that have taken place since the date of its last change in status filing submitted on 5/12/06.

Filed Date: 07/02/2007.

Accession Number: 20070705-0199.

Comment Date: 5 p.m. Eastern Time on Monday, July 23, 2007.

Docket Numbers: ER01-1363-007; ER96-25-029.

Applicants: Coral Energy Management, LLC; Coral Power, L.L.C.

Description: Coral Power LLC and Coral Energy Management LLC submits a notice of change in status pursuant to requirements of Order 652.

Filed Date: 07/03/2007.

Accession Number: 20070706-0051.

Comment Date: 5 p.m. Eastern Time on Tuesday, July 24, 2007.

Docket Numbers: ER04-115-007.

Applicants: California Independent System Operator.

Description: California Independent System Operator submits its compliance report pursuant to Commission's Order issued 9/22/05.

Filed Date: 07/02/2007.

Accession Number: 20070706-0004.

Comment Date: 5 p.m. Eastern Time on Monday, July 23, 2007.

Docket Numbers: ER07-562-003.

Applicants: Trans-Allegheny Interstate Line Company.

Description: Trans-Allegheny Interstate Line Company submits this filing in compliance w/ FERC's order accepting and suspending proposed formula rates, subject to conditions, and establishing hearing and Settlement Judge Procedures.

Filed Date: 07/02/2007.

Accession Number: 20070705-0196.

Comment Date: 5 p.m. Eastern Time on Monday, July 23, 2007.

Docket Numbers: ER07-614-002.

Applicants: American Transmission Systems, Incorporated.

Description: American Transmission Systems, Incorporated et al submits a revised Construction Agreement dated 6/29/07, to establish a new 138 kV delivery point w/ Buckeye Power, Inc.

Filed Date: 07/02/2007.

Accession Number: 20070705-0198.

Comment Date: 5 p.m. Eastern Time on Monday, July 23, 2007.

Docket Numbers: ER07-829-002.

Applicants: MidAmerican Energy Company.

Description: MidAmerican Energy Company submits Attachment 1.A market version of Sheet Nos. 1, 2, and 4 of Rate Schedule 201.

Filed Date: 07/05/2007.

Accession Number: 20070706-0050.

Comment Date: 5 p.m. Eastern Time on Thursday, July 26, 2007.

Docket Numbers: ER07-934-001.

Applicants: The Detroit Edison Company.

Description: Detroit Edison Company submits its clean and red-lined copies of Tariff Sheet 28-30 which properly recognize its proposed removal of Schedule 4 from its Tariff.

Filed Date: 07/03/2007.

Accession Number: 20070706-0052.

Comment Date: 5 p.m. Eastern Time on Tuesday, July 24, 2007.

Docket Numbers: ER07-1125-000.

Applicants: Niagara Mohawk Power Corporation.

Description: Niagara Mohawk Power Corporation dba National Grid submits an Interconnection Agreement dated January 13, 1992 w/ Project Orange Associates, LP pursuant to section 205 of the FPA.

Filed Date: 07/02/2007.

Accession Number: 20070705-0190.

Comment Date: 5 p.m. Eastern Time on Monday, July 23, 2007.

Docket Numbers: ER07-1126-000.

Applicants: Niagara Mohawk Power Corporation.

Description: Niagara Mohawk Power Corp dba National Grid submits an amended and restated Interconnection Agreement, dated June 30, 1998 w/ Power City Partners, LP pursuant to Section 205 of the FPA.

Filed Date: 07/02/2007.

Accession Number: 20070705-0193.

Comment Date: 5 p.m. Eastern Time on Monday, July 23, 2007.

Docket Numbers: ER07-1128-000.

Applicants: Vermont Transco LLC.

Description: Vermont Transco LLC submits an updated Exhibit A for the “1991 Transmission Agreement,” a rate schedule commonly referred to as the VTA and designated as FERC Rate Schedule 1.

Filed Date: 07/02/2007.

Accession Number: 20070705-0194.

Comment Date: 5 p.m. Eastern Time on Monday, July 23, 2007.

Docket Numbers: ER07-1129-000.

Applicants: PacifiCorp.

Description: PacifiCorp submits revised tariff sheets to the Appendices of FERC Rate Schedule 590, Control Area Services Agreement w/ Deseret Generation & Transmission Cooperative.

Filed Date: 07/03/2007.

Accession Number: 20070705-0191.

Comment Date: 5 p.m. Eastern Time on Tuesday, July 24, 2007.

Docket Numbers: ER07-1130-000.

Applicants: AEP Energy Partners, Inc.

Description: AEP Energy Partners, Inc submits this Notice of Succession to reflect a name change on its market-based rate tariff from AEP Energy Partners, LP to AEP Energy Partners, Inc.

Filed Date: 07/03/2007.

Accession Number: 20070705-0192.

Comment Date: 5 p.m. Eastern Time on Tuesday, July 24, 2007.

Docket Numbers: ER07-1131-000.

Applicants: American Electric Power Service Corp.

Description: AEP Texas Central Company et al. submits a partially executed Restated and Amended Service Agreement for ERCOT Regional Transmission Service with the Transmission Provider et al.

Filed Date: 07/03/2007.

Accession Number: 20070706-0054.

Comment Date: 5 p.m. Eastern Time on Tuesday, July 24, 2007.

Docket Numbers: ER07-1132-000.

Applicants: Carolina Power & Light Company.

Description: Progress Energy Carolinas Inc submits Service Agreement 288 to its OATT, FERC Electric Tariff, Third Revised Volume 3 with and Industrial Power Generation Corporation.

Filed Date: 07/05/2007.

Accession Number: 20070706-0055.

Comment Date: 5 p.m. Eastern Time on Thursday, July 26, 2007.

Docket Numbers: ER07-1133-000.

Applicants: Westar Energy, Inc.

Description: Westar Energy Inc submits Fifth Revised Sheet 1 and 4 of First Revised Rate Schedule 233 an Electric Power Supply Agreement with the City of Robinson, Kansas, effective 1/1/08.

Filed Date: 07/05/2007.

Accession Number: 20070706-0056.

Comment Date: 5 p.m. Eastern Time on Thursday, July 26, 2007.

Take notice that the Commission received the following foreign utility company status filings:

Docket Numbers: FC07-52-000.

Applicants: E.ON U.S. LLC.

Description: FUCO—Notification of Material Change in Facts of E.ON U.S. LLC under FC07-52.

Filed Date: 07/05/2007.

Accession Number: 20070705-5015.

Comment Date: 5 p.m. Eastern Time on Thursday, July 26, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at: http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail: FERCOnlineSupport@ferc.gov. or call (866) 208-3676 (toll free). For TTY, call (202) 502-8659.

Kimberly D. Bose,
Secretary.

[FR Doc. E7-13976 Filed 7-18-07; 8:45 am]

BILLING CODE 6717-01-P